DEPARTMENT OF COMMERCE

International Trade Administration

[A-570-851]

Certain Preserved Mushrooms From The People's Republic of China: Notice of Extension of Time Limit for Preliminary Results in New Shipper Review

AGENCY: Import Administration, International Trade Administration, Department of Commerce.

SUMMARY: The Department of Commerce (the Department) is extending the time limit for the preliminary results of the seventh new shipper review of the antidumping duty order on certain preserved mushrooms from the People's Republic of China (PRC), which covers the period February 1, 2003, through July 31, 2003.

EFFECTIVE DATE: February 13, 2004.

FOR FURTHER INFORMATION CONTACT: Brian Smith at (202) 482-1766, Sophie Castro at (202) 482-0588, or Jim Mathews at (202) 482-2778, Office 2, AD/CVD Enforcement Group I, Import Administration, International Trade Administration, U.S. Department of Commerce, 14th Street and Constitution Avenue, N.W., Washington, D.C., 20230.

SUPPLEMENTARY INFORMATION: In accordance with section 751(a)(2)(B)(iv) of the Tariff Act of 1930 (the Act), as amended, the Department shall make a preliminary determination in a new shipper review within 180 days after the date on which the review is initiated. However, if the case is extraordinarily complicated, it may extend the 180 day period for the preliminary results to 300 days.

The Department initiated the seventh new shipper review¹ of the antidumping duty order on certain preserved mushrooms on October 7, 2003 (68 FR 57877). The current deadline for the preliminary results in this review is March 28, 2004.

¹ The new shipper respondents are Nanning Runchao Industrial Trade Company, Ltd. and Guangxi Hengxian Pro-Light Foods, Inc.

The Department finds that this case is extraordinarily complicated and thus we need additional time to conduct verifications² and to analyze issues pertaining to the reporting of factors of production. Therefore, an extension of time is necessary.

² Due to administrative constraints, we are unable to conduct verifications until after the date of the currently scheduled preliminary results.

Therefore, in accordance with sections 751(a)(2)(B)(iv) of the Act, the Department is extending the time for completion of the preliminary results of this review by 120 days, or until July 26, 2004. This notice is published in accordance with section 751(a)(3)(A) of the Act.

Dated: February 6, 2004.
Jeffrey May,
Deputy Assistant Secretary for Import Administration.

[FR Doc. 04-3256 Filed 2-12-04; 8:45 am]

BILLING CODE 3510-DS-S